ELECTION ASSISTANCE COMMISSION

Standards Board: Submission of Charter

AGENCY: U.S. Election Assistance Commission.

ACTION: Notice of Standards Board: charter submission.

SUMMARY: The Election Assistance Commission announces the submission of the charter for the Standards Board. The purpose of the Board is to provide advice and consultation to the Election Assistance Commission consistent with the requirements of the Help America Vote Act of 2002.

FOR FURTHER INFORMATION CONTACT: Bryan Whitener, U.S. Election Assistance Commission, 1225 New York Avenue, NW., Suite 1100, Washington, DC 20005. Telephone: (202) 566-3100; toll free: 1-(866) 747-1471.

Gracia M. Hillman,
Vice-Chair, U.S. Election Assistance Commission.

Charter of the U.S. Election Assistance Commission Standards Board

The U.S. Election Assistance Commission (EAC) hereby Charters the Standards Board established in title II, section 211 of the Help America Vote Act of 2002 (HAVA) (Public Law 107-252) pursuant to the Federal Advisory Committee Act.

Objectives and Duties

1. The objective of the Standards Board (the Board) is to advise the EAC through review of the voluntary voting systems guidelines described in title II part 3 of the HAVA; through review of the voluntary guidance described under title III of HAVA; and through the review of the best practices recommendations contained in the report submitted under section 242(b) of title II (HAVA title II, section 212).

2. The Board will function solely as an advisory body and will comply fully with the provisions of the Federal Advisory Committee Act.

Membership

1. The Board shall consist of 110 members. Fifty-five members shall be State election officials selected by the chief State election official of each State. Fifty-five shall be local election officials selected under a process supervised by the chief election official of the State. The 2 members of the Standards Board who represent the same State may not be members of the same political party. (HAVA title II, section 213(a)). Vacancy appointments shall be made in the same manner as the original appointments.

2. The Board shall select 9 of its members as an Executive Board of whom, not more than 5 may be State election officials; not more than 5 may be local election officials; and not more than 5 may be members of the same political party. Members of the Executive Board shall serve 2 year terms and may not serve more than 3 consecutive terms. Of the initial Executive Board, 3 members shall serve for 1 term; 3 shall serve for 2 consecutive terms; and 3 shall serve for 3 consecutive terms, as determined by lot at the time the members are first appointed (HAVA title II, section 213(c)).

Administrative Provisions

1. The Board will report to the EAC through the Advisory Committee Management Officer pursuant to 5 U.S.C. app. 1, section 8(b). This officer shall be an EAC Commissioner designated by the Chairman of the EAC.

2. The Board will meet a minimum of once a year for purposes of voting on the voluntary voting system guidelines and not less frequently than once every 2 years for purposes of selecting the Executive Board. Additional meetings may be called at such other times as it considers appropriate for the purposes of conducting other business as it considers appropriate consistent with title II of HAVA. (HAVA title II, section 215(a)(2)).

3. The EAC and GAO will provide clerical and other necessary support services to the Board. (HAVA title II, section 215(d)).

4. Members of the Board will not be compensated for their services but will be reimbursed for travel expenses and subsistence. (HAVA title II, section 215(e)).

5. The Board may use the United States mails in the same manner and under the same conditions as a department or agency of the Federal government. (HAVA title II, section 215 (c)).

6. The annual cost for operating the Board is estimated at $210,000 which includes one quarter staff year for support services.

7. The Board may establish such committees of its members as may be necessary subject to the provisions of the law.

8. The Board may, by simple majority vote, adopt resolutions and make recommendations. Such resolutions and recommendations will, however, be only advisory to the EAC and will be restricted to the EAC's activities described in title II section 212 of the Help America Vote Act of 2002.

9. The EAC will provide liaison services between the Board and the Advisory Panel Secretariat as required by the Federal Advisory Committee Act.

Duration

This is a permanent committee as established in title II, section 215 (f) of the Help America Vote Act of 2002.

Dated: June 14, 2004.
Gracia M. Hillman,
Vice Chair, U.S. Election Assistance Commission.

[FR Doc. 04-13798 Filed 6-17-04; 8:45 am]

BILLING CODE 6820-MP-M